DEPARTMENT OF TRANSPORTATION

National Highway Traffic Safety Administration

[Docket No. DOT-NHTSA-2014-0050]

Notice and Request for Comments

AGENCY: National Highway Traffic Safety Administration (NHTSA), Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on May 9, 2014 FR NHTSA-2014-0050). No comments were received.

DATES: Comments must be submitted on or before March 7, 2016.

ADDRESSES: Send comments regarding the burden estimate, including suggestions for reducing the burden, to the Office of Management and Budget, Attention: Desk Officer for the Office of the Secretary of Transportation, 725 17th Street NW., Washington, DC 20503.

FOR FURTHER INFORMATION CONTACT: Glaceria Mason, National Highway Traffic Safety Administration, Room W52-211 Department of Transportation, 1200 New Jersey Avenue SE., Washington, DC 20590. Ms. Mason's telephone number is (202) 366-5876. Please identify the relevant collection of information by referring to its OMB Control Number.

SUPPLEMENTARY INFORMATION: Title: NHTSA: Drunk Driver Segmentation Research Survey.

OMB Control Number: 2127-XXXX.

Type of Request: Web-based Segmentation Research Survey.

Abstract: The purpose of NHTSA's Web-based At-Risk Drunk Drivers/Riders Segmentation Research Survey is to obtain information about the characteristics of drivers and motorcycle riders who are at most risk for driving/riding drunk. NHTSA will conduct segmentation analysis to classify “at-risk” drivers/riders based on common demographics, drinking behaviors, attitudes, lifestyle characteristics and media habits to better target and reach the intended audiences with communications methods and techniques to reduce the number of deaths, injuries and economic losses resulting from drunk driving crashes on our Nation's roadways.

Affected Public: At-Risk Drunk Drinkers/Riders ages 21-54 years old.

Estimated Number of Respondents: The number of respondents is estimated to be 10% of the 22,000 respondents; thereby determining 2,200 respondents being eligible to take the full survey.

Estimated Total Annual Burden Hours: 5,868.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; and 49 CFR 1:48.

Susan McMeen,
Office Director, Office of Consumer Information.

[FR Doc. 2016-02096 Filed 2-3-16; 8:45 am]

BILLING CODE 4910-59-P